Proclamation 10028 of May 6, 2020

National Nurses Day, 2020

By the President of the United States of America

A Proclamation

Every day, nurses provide quality, compassionate, and critical care to patients during both routine medical visits and in times of great vulnerability, fear, and uncertainty. Over the past weeks and months, as our nurses have worked heroically on the frontlines of the coronavirus response, their contributions to the health and well-being of our citizenry have been exponentially magnified. On National Nurses Day, we honor and celebrate the extraordinary men and women who devote themselves to this vital and noble profession.

Nursing is not merely a vocation; it is a special calling to serve others selflessly, particularly in times when help is needed most. Throughout our Nation's history, in times of war, natural disaster, medical emergencies, and both epidemics and pandemics, nurses have rushed in—undaunted by danger, personal sacrifice, and discomfort to provide hope, help, and healing to people in need.

Few times has our reliance on nurses been more profoundly evident than during the coronavirus outbreak. In the midst of this crisis, nurses have displayed incredible examples of humanity, selflessness, and sacrifice as they have fought to care for their fellow citizens and save lives. Nationwide, in hospitals, clinics, and other treatment centers where Americans are suffering from the virus, these warriors have steadfastly provided remarkable care and vital assistance to patients. In spite of fatigue and the threat to their own health, nurses soldier on in combat against this invisible enemy. Often the first to treat patients in our hospitals, they provide critical support to doctors, alleviating burdens throughout our healthcare system. They are adaptable and capable of enduring and overcoming unbearable hardship, immeasurable stress, tremendously long hours, and extreme mental and emotional exhaustion so that others may live. Nurses are awe-inspiring and truly worthy of admiration and praise.

Nurses reflect the character of America and epitomize the inexhaustible capacity of the human spirit. These remarkable caregivers exhibit professional expertise, selfless dedication, unrelenting advocacy, and unsurpassed mercy, strength, and compassion. On this National Nurses Day, Melania and I urge all citizens to join us in offering our wholehearted gratitude, uncompromising support, and utmost respect to these invaluable healthcare professionals.

NOW, THEREFORE, I, DONALD J. TRUMP, President of the United States of America, by virtue of the authority vested in me by the Constitution and the laws of the United States, do hereby proclaim May 6, 2020, as National Nurses Day. I call upon the people of the United States to observe this day with appropriate ceremonies and activities.

IN WITNESS WHEREOF, I have hereunto set my hand this sixth day of May, in the year of our Lord two thousand twenty, and of the Independence of the United States of America the two hundred and forty-fourth.

[FR Doc. 2020-10226

Filed 5-8-20; 11:15 am]

Billing code 3295-F0-P